SMALL BUSINESS ADMINISTRATION

[Disaster Declaration #15788 and #15789; Georgia Disaster Number GA-00109]

Presidential Declaration Amendment of a Major Disaster for Public Assistance Only for the State of Georgia

AGENCY: U.S. Small Business Administration.

ACTION: Amendment 3.

SUMMARY: This is an amendment of the Presidential declaration of a major disaster for Public Assistance Only for the State of Georgia (FEMA-4400-DR), dated 11/01/2018.

Incident: Hurricane Michael.

Incident Period: 10/09/2018 through 10/23/2018.

DATES: Issued on 11/15/2018.

Physical Loan Application Deadline Date: 12/31/2018.

Economic Injury (EIDL) Loan Application Deadline Date: 08/02/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Georgia, dated 11/01/2018, is hereby amended to include the following areas as adversely affected by the disaster.

Primary Counties: Hancock, Tattnall.

All other information in the original declaration remains unchanged.

(Catalog of Federal Domestic Assistance Number 59008)

James Rivera,
Associate Administrator for Disaster Assistance.

[FR Doc. 2018-26706 Filed 12-10-18; 8:45 am]

BILLING CODE 8025-01-P